DEPARTMENT OF EDUCATION

[Docket No.: ED-2021-SCC-0130]

Agency Information Collection Activities; Comment Request; School Pulse Panel Data Collection

AGENCY: Institute for Education Sciences (IES), National Center for Education Statistics (NCES), Department of Education (ED).

ACTION: Notice.

SUMMARY: In accordance with the Paperwork Reduction Act of 1995, ED is requesting the Office of Management and Budget (OMB) to conduct an emergency review of an information collection.

DATES: The Department has requested emergency processing from OMB for this information collection request by September 3, 2021. The information collection will simultaneously follow the regular clearance process where the Department will provide the public with the opportunity to comment. Interested persons are invited to submit comments on or before October 7, 2021.

ADDRESSES: To access and review all the documents related to the information collection listed in this notice, please use http://www.regulations.gov by searching the Docket ID number ED-2021-SCC-0130. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave. SW, LBJ, Room 6W208B, Washington, DC 20202-8240.

FOR FURTHER INFORMATION CONTACT: For specific questions related to collection activities, please contact Carrie Clarady, 202-245-6347.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: School Pulse Panel Preliminary Activities.

OMB Control Number: 1850-0963.

Type of Review: A revision of a currently approved information collection.

Respondents/Affected Public: State, Local or Tribal Govt.

Total Estimated Number of Annual Responses: 17,280.

Total Estimated Number of Annual Burden Hours: 26,352.

Abstract: The School Pulse Panel is a new study conducted by the National Center for Education Statistics (NCES), part of the Institute of Education Sciences (IES), within the United States Department of Education, to collect extensive data on issues concerning the impact of the COVID-19 pandemic on students and staff in U.S. public primary, middle, high, and combined-grade schools. The survey will ask school district staff and sampled school principals about topics such as instructional mode offered; enrollment counts of subgroups of students using various instructional modes; learning loss mitigation strategies; safe and healthy school mitigation strategies; special education services; use of technology; use of federal relief funds; and information on staffing. Because this data collection is extremely high priority and time sensitive, it will undergo Emergency Clearance. The administration of the School Pulse Panel study is in direct response to President Biden's Executive Order 14000: Supporting the Reopening and Continuing Operation of Schools and Early Childhood Education Providers. It will be one of the nation's few sources of reliable data on a wealth of information focused on school reopening efforts, virus spread mitigation strategies, services offered for students and staff, and technology use, as reported by school district staff and principals in U.S. public schools. About 1200 public elementary, middle, high, and combined-grade schools will be selected to participate in a panel where school and district staff will be asked to provide requested data monthly during the 2021-22 school years. This approach provides the ability to collect detailed information on various topics while also assessing changes in reopening efforts over time. Given the high demand for data collection during this time, the content of the survey may change on a quarterly basis.

Additional Information: An emergency clearance approval for the use of the system is described below due to the following conditions:

NCES requests emergency clearance to allow us to comply with the January 21, 2021 Executive Order on Supporting the Reopening and Continuing Operation of Schools and Early Childhood Education Providers which states that the Department of Education must “coordinate with the Director of the Institute of Education Sciences to facilitate, consistent with applicable law, the collection of data necessary to fully understand the impact of the COVID-19 pandemic on students and educators, including data on the status of in-person learning. These data shall be disaggregated by student demographics, including race, ethnicity, disability, English-language-learner status, and free or reduced lunch status or other appropriate indicators of family income.” Normal clearance procedures would not allow IES to comply with the intent of this E.O. Because this data collection is extremely high priority and time sensitive, the Department is requesting emergency processing.

Dated: August 31, 2021.
Stephanie Valentine,
PRA Coordinator, Strategic Collections and Clearance Governance and Strategy Division, Office of Chief Data Officer.

[FR Doc. 2021-19158 Filed 9-3-21; 8:45 am]

BILLING CODE 4000-01-P